DEPARTMENT OF VETERANS AFFAIRS

Rehabilitation Research and Development Scientific Merit Review Board, Notice of Meeting

The Department of Veterans Affairs (VA) gives notice under the Federal Advisory Committee Act, 5 U.S.C. App. 2, that a meeting of the Rehabilitation Research and Development Service Scientific Merit Review Board will be held on April 9, 2013, in Room 23 at 131 M Street NE., Washington, DC, from 8 a.m. to 5 p.m. to evaluate Rehabilitation Research and Development Center of Excellence and Research Enhancement Award Program applications.

The purpose of the Board is to review rehabilitation research and development applications and advise the Director, Rehabilitation Research and Development Service, and the Chief Research and Development Officer on the scientific and technical merit, the mission relevance, and the protection of human and animal subjects.

The meeting will be open to the public for approximately one-half hour at the start to cover administrative matters and to discuss the general status of the program. The remaining portion of the meeting will be closed to the public for the discussion, examination, reference to, and oral review of the research applications and critiques. No oral or written comments will be accepted from the public for either portion of the meeting.

During the closed potion of the meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing the meeting is in accordance with 5 U.S.C. 552b(c)(6) and (9)(B).

Those who plan to attend the open portion of the meeting should contact Tiffany Asqueri, Designated Federal Officer, Rehabilitation Research and Development Service, at Department of Veterans Affairs (10P9R), 810 Vermont Avenue NW., Washington, DC 20420, or email tiffany.asqueri@va.gov at least five days before the meeting. For further information, please call Mrs. Asqueri at (202) 443-5757.

Dated: March 21, 2013.
By Direction of the Secretary.
Vivian Drake,
Committee Management Officer.

[FR Doc. 2013-06978 Filed 3-26-13; 8:45 am]

BILLING CODE P